POSTAL RATE COMMISSION

Sunshine Act Meetings

Name of Agency: Postal Rate Commission.

Time and Date: 10:30 a.m., September 17, 2001.

Place: 1333 H Steet NW., Suite 300, Washington, DC 20268-0001.

Status: Closed.

Matters to be Considered: Personnel issues.

Contact Person for More Information: Stephen L. Sharfman, General Counsel, Postal Rate Commission, 1333 H Street NW., Washington, DC, 202-789-7820.

Dated: September 19, 2001.
Steven W. Williams,
Acting Secretary.

[FR Doc. 01-23916 Filed 9-20-01; 2:07 pm]

BILLING CODE 7710-FW-M